DEPARTMENT OF ENERGY

Federal Energy Regulatory Commission

[Project No. 14381-000]

Qualified Hydro 15, LLC; Notice of Preliminary Permit Application Accepted for Filing and Soliciting Comments, Motions To Intervene, and Competing Applications

On April 9, 2012, Qualified Hydro 15, LLC filed an application for a preliminary permit, pursuant to section 4(f) of the Federal Power Act (FPA), proposing to study the feasibility of the Blue River Dam Hydroelectric Project (Blue River Dam project) to be located on the Blue River in the vicinity of Blue River, in Lane County, Oregon. The sole purpose of a preliminary permit, if issued, is to grant the permit holder priority to file a license application during the permit term. A preliminary permit does not authorize the permit holder to perform any land-disturbing activities or otherwise enter upon lands or waters owned by others without the owners' express permission.

The proposed project would utilize flows from the existing 1,265-foot-long earth-fill dam on the Blue River, which is owned and operated by the U.S. Army Corps of Engineers. Additional existing project features would be modified for use by the proposed project. The existing concrete intake structure would have trash racks added. The existing 1,800-foot-long concrete-lined outlet tunnel would be lined with steel. The existing stilling basin would be extended 70 feet and modified to accommodate a new bifurcation chamber and gatehouse.

New project features would consist of the following: (1) A steel bifurcation chamber and concrete gatehouse in the stilling basin that would provide flow to the penstock and directly back into the Blue River when incoming flows exceed plant capacity or when the project is not operating; (2) a powerhouse gate that would control flow into the penstock; (3) a 600-foot-long, 12-foot diameter steel penstock from the stilling basin to the powerhouse; (4) a 70-foot by 50-foot reinforced concrete powerhouse containing two turbine/generators units for a total capacity of 20 megawatts; (5) a 125-foot-long, 60-foot-wide tailrace that would return flow back to the Blue River; (6) a substation; (7) an approximately 1.5-mile-long, 115-kilovolt transmission line which would tie into the existing Bonneville Power Administration Blue River substation; and (8) appurtenant facilities. The estimated annual generation of the Blue River Dam project would be 50 gigawatt-hours.

Applicant Contact: Ramya Swaminathan, Qualified Hydro 15, LLC, 239 Causeway St., Suite 300, Boston, MA; phone: (978) 283-2822.

FERC Contact: Ryan Hansen (202) 502-8074 or ryan.hansen@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14381-000) in the docket number field to access the document. For assistance, contact FERC Online Support.

Dated: April 24, 2012.
Kimberly D. Bose,
Secretary.

[FR Doc. 2012-10530 Filed 5-1-12; 8:45 am]

BILLING CODE 6717-01-P